DEPARTMENT OF COMMERCE

National Oceanic and Atmospheric Administration

RIN 0648-XG554

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat Committee to consider actions affecting New England fisheries in the exclusive economic zone (EEZ). Recommendations from this group will be brought to the full Council for formal consideration and action, if appropriate.

DATES: This meeting will be held on Wednesday, November 7, 2018 at 10 a.m.

ADDRESSES: Meeting address: The meeting will be held at the Crowne Plaza Hotel, 801 Greenwich Avenue, Warwick, RI 02886; phone: (401) 732-6000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will review the range of alternatives in the clam dredge framework. These alternatives were developed by the Habitat Plan Development Team with guidance from the Habitat Committee and the Council. They will review the PDT's preliminary analysis of alternatives. The committee will also discuss findings of the Council's Enforcement Committee regarding the use of 5-minute VMS to monitor fishing activity within potential exemption areas. They plan to review the Habitat Advisory Panel recommendations developed on November 5. They will suggest changes to the alternatives and request additional analyses from the PDT to inform final action at the December Council meeting. Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the date. This meeting will be recorded. Consistent with 16 U.S.C. 1852, a copy of the recording is available upon request.

Authority: 16 U.S.C. 1801 et seq.

Dated: October 18, 2018.
Tracey L. Thompson,
Acting Deputy Director, Office of Sustainable Fisheries, National Marine Fisheries Service.

[FR Doc. 2018-23082 Filed 10-22-18; 8:45 am]

BILLING CODE 3510-22-P